DEPARTMENT OF COMMERCE

National Oceanic and Atmospheric Administration

50 CFR Part 660

[Docket No. 000124018-0018-01; I.D. 122999A]

RIN 0648-AN38

Fisheries off West Coast States and in the Western Pacific; Pacific Coast Groundfish Fishery; Advance Notice of Proposed Rulemaking to Establish a Control Date

AGENCY: National Marine Fisheries Service (NMFS), National Oceanic and Atmospheric Administration (NOAA), Commerce.

ACTION: Advance notice of proposed rulemaking; request for comments.

SUMMARY: The Pacific Fishery Management Council (Council) is considering management measures to reduce harvest capacity in the open access portion of the Pacific Coast groundfish fishery in Federal waters off Washington, Oregon, and California. NMFS has previously made a similar announcement relating to the limited entry and recreational portions of the fishery. This document announces a control date for the open access portion of November 5, 1999, and is intended to promote awareness of potential eligibility criteria for future access to the open access portion of the Pacific Coast groundfish fishery. The announcement is intended to discourage new entries into this fishery and increased fishing effort based on economic speculation while the Council contemplates whether and how access should be controlled.

Vessels entering the fisheries after November 5, 1999, may be subject to restrictions different from those that apply to vessels in the fishery prior to November 5, 1999. If catch history is used as a basis for future participation or allocation, it is likely that participation in the fishery after November 5, 1999, would not count toward future allocations or participation in a limited access scheme. Because potential eligibility criteria for future management measures may be based on historical participation, fishery participants may need to preserve records that substantiate and verify their participation in the groundfish fishery in Federal waters.

DATES: Comments may be submitted in writing by March 13, 2000.

ADDRESSES: Comments may be mailed to Jim Lone, Chairman, Pacific Fishery Management Council, 2130 SW Fifth Avenue, Suite 224, Portland OR 97201.

FOR FURTHER INFORMATION CONTACT: The Pacific Fishery Management Council at 503-326-6352; or Bill Robinson at 206-526-6140; or Svein Fougner at 562-980-4000.

SUPPLEMENTARY INFORMATION: The Pacific Coast Groundfish Fishery Management Plan (FMP) was approved on January 4, 1982 (47 FR 43964, October 5 1982), and has been amended 11 times. Implementing regulations for the FMP and its amendments are codified at 50 CFR Part 660. On November 16, 1992, NMFS published final regulations implementing Amendment 6 to the FMP. Amendment 6 and its implementing regulations established a license limitation program and divided the Pacific Coast commercial groundfish fishery into limited entry and open access segments. The limited entry fishery is comprised of permitted vessels using trawl, longline and/or trap (pot) gear. The open access fishery is comprised of unpermitted vessels that use all other gear, as well as vessels that do not have limited entry permits endorsed for use of longline or trap gear but make small landings with longline or trap gear.

NMFS had previously made an announcement that the Council is considering additional management measures to further limit harvest capacity or to allocate between or within the limited entry commercial and the recreational groundfish fisheries. In order to discourage fishers from intensifying their fishing efforts for the purpose of amassing catch history for any allocation or additional limited access program developed by the Council, the Council announced on April 9, 1998, that any program would not include consideration of catch landed after that date. NMFS announced that the Council was planning to consider catch history through the 1997 season (63 FR 53637, October 6, 1998).

At its April 1999 meeting, the Council reviewed a proposal to create a limited entry program to limit new entrants into the open access fishery. At this same meeting, the Council's Groundfish Advisory Subpanel (GAP) encouraged the Council to move toward the development of an individual quota (IQ) program for the limited entry and open access fisheries as a means of managing harvest capacity. Under Section 303(d)(1)(A) of the Magnuson-Stevens Fishery Conservation and Management Act, the Council cannot submit recommendations for an IQ program to the Secretary of Commerce before October 1, 2000, however, the Council is not prohibited from developing such a program.

At its June 1999 meeting, the Council further examined the proposal to create a limited entry program to limit new entrants into the open access fishery. Members of the Council expressed concerns that restricting new entrants into the fishery would not adequately address harvest capacity concerns. Even though the need to limit new entrants into the open access fleet was recognized, this measure did not go forward for further development. Limited access and participation in the open access fisheries were further discussed at the November 1999 Council meeting, resulting in this document.

Because the document published on October 6, 1998, refers specifically to management measures to restrain harvest capacity in the limited entry fishery, the Council saw a need to establish a control date for the open access fishery while management measures to restrain harvest capacity throughout the entire groundfish fishery are being considered. At its November meeting, the Council unanimously recommended that a control date of November 5, 1999, be established and the public be notified that the Council is considering the need to impose additional management measures to restrain harvest capacity in the open access fishery. The Council announced this control date for the open access portion of the Pacific Coast groundfish fishery in its November 1999 newsletter. The newsletter was distributed to the public in the middle of November.

Vessels entering the fishery after November 5, 1999, may be subject to restrictions different from those that apply to vessels in the fishery prior to November 5, 1999. If catch history is used as a basis for participation or allocation, it is likely that participation in the fishery after the control date would not count toward future allocations in a limited access scheme. Fishers are not guaranteed future participation in the groundfish fishery, regardless of their date of entry or level of participation in the fishery.

This action does not commit the Council to develop any particular management regime or to use any specific criteria for determining entry to the fishery. The Council may choose a different control date, or may choose a management program that does not make use of such a date.

Implementation of any management measures for the fishery will require amendment of the regulations implementing the FMP, and may require amending the FMP. Any action will require Council development of a regulatory proposal with public input and a supporting analysis, NMFS approval, and publication of implementing regulations in the Federal Register.

Authority: 16 U.S.C. 1801 et seq.

Dated: February 4, 2000.
Penelope D. Dalton,
Assistant Administrator for Fisheries, National Marine Fisheries Service.

[FR Doc. 00-3150 Filed 2-9-00; 8:45 am]

BILLING CODE 3510-22-F